DEPARTMENT OF TRANSPORTATION

National Highway Traffic Safety Administration

[Docket Number NHTSA-2020-0101]

Agency Information Collection Activities; Notice and Request for Comment; Reporting of Information and Documents About Potential Defects

AGENCY: National Highway Traffic Safety Administration (NHTSA), Department of Transportation (DOT).

ACTION: Notice and request for public comments on a reinstatement with modification of a previously approved collection of information.

SUMMARY: The National Highway Traffic Safety Administration (NHTSA) invites public comments about our intention to request Office of Management and Budget (OMB) approval for a reinstatement with modification of a currently approved information collection. Before a Federal agency can collect certain information from the public, it must receive approval from OMB. Under procedures established by the Paperwork Reduction Act of 1995, before seeking OMB approval, Federal agencies must solicit public comment on proposed collections of information, including extensions and reinstatements of previously approved collections. This document describes a collection of information for which NHTSA intends to seek OMB approval.

DATES: Comments must be received on or before March 1, 2021.

ADDRESSES: You may submit comments identified by the Docket No. NHTSA-2020-0101 using any of the following methods:

• Federal eRulemaking Portal: Go to http://www.regulations.gov. Follow the online instructions for submitting comments.

• Mail or Hand Delivery: Docket Management, U.S. Department of Transportation, 1200 New Jersey Avenue SE, West Building, Room W12-140, Washington, DC 20590-0001, between 9 a.m. and 5 p.m. ET, Monday through Friday, except Federal holidays. To be sure someone is there to help you, please call (202) 366-9322 before coming.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. To be sure someone is there to help you, please call (202) 366-9322 before coming. Follow the online instructions for accessing the dockets.

FOR FURTHER INFORMATION CONTACT: For additional information or access to background documents, contact, Tanya Topka, Trends Analysis Division (NEF-108), Room W48-337, National Highway Traffic Safety Administration, 1200 New Jersey Ave., Washington, DC 20590. Telephone: (202) 366-9590. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation, see 5 CFR 1320.8(d), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following collection of information:

Title: Reporting of Information and Documents About Potential Defects.

OMB Control Number: 2127-0616.

Type of Request: Reinstatement with modification of a previously approved information collection.

Type of Review Requested: Regular.

Requested Expiration Date of Approval: 3 years from date of approval.

Background and Summary of the Collection of Information: This notice requests comment on NHTSA's intention to seek approval from OMB to reinstate with modification a previously approved collection of information, OMB No. 2127-0616, covering requirements in 49 CFR 579, Reporting of Information and Communications about Potential Defects. Part 579 implements, and addresses with more specificity, requirements from the Transportation Recall Enhancement, Accountability, and Documentation (TREAD) Act (Pub. L. 106-414), which was enacted on November 1, 2000, and are codified at 49 U.S.C. 30166.

The purpose of part 579 is to enhance motor vehicle safety by specifying information and documents that manufacturers of motor vehicles and motor vehicle equipment must provide to NHTSA with respect to possible safety-related defects and non-compliances in their products, including the reporting of safety recalls and other safety campaigns the manufacturers conduct outside the United States. Under part 579, there are three categories of reporting requirements: (1) Requirements at § 579.5 to submit notices, bulletins, customer satisfaction campaigns, consumer advisories, and other communications (found in Subpart A of part 579); (2) requirements at § 579.11 to submit information related to safety recalls and other safety campaigns in foreign countries (found in Subpart B of part 579); and (3) requirements at §§ 579.21-28 to submit Early Warning Information (found in Subpart C of part 579). The Early Warning Reporting (EWR) requirements (49 U.S.C. 30166(m); 49 CFR part 579, subpart C) specify that manufacturers of motor vehicles and motor vehicle equipment must submit to NHTSA information, periodically or upon NHTSA's request, that includes claims for deaths and serious injuries, property damage data, communications from customers and others, information on incidents resulting in fatalities or serious injuries from possible defects in vehicles or equipment in the United States or in identical or substantially similar vehicles or equipment in a foreign country, and other information that assists NHTSA in identifying potential safety-related defects. The intent of this information collection is to provide early warning of such potential safety-related defects to NHTSA.

Description of the Need for the Information and Proposed Use of the Information: The information required under 49 U.S.C. 30166 and 49 CFR part 579 is used by NHTSA to promptly identify potential safety-related defects in motor vehicles and motor vehicle equipment in the United States. When a trend in incidents arising from a potentially safety-related defect is discovered, NHTSA relies on this information, along with other agency data, to determine whether or not to open a defect investigation.

Affected Public: Manufacturers of motor vehicles and motor vehicle equipment.

Estimated Number of Respondents: NHTSA receives part 579 submissions from approximately 337 manufacturers per year. We estimate that there will be a total of 337 respondents per year associated with OMB No. 2127-0616.

Estimated Total Annual Burden Hours: When this approved information collection was last renewed in June 2017, NHTSA estimated the annual burden associated with this collection to be 49,243 burden hours. NHTSA is updating these estimates to better align with the current volume of submissions and to include reporting for common green tires and follow-up sequences (per § 579.28(l)) that were left out of the previous information collection request. NHTSA now estimates that the annual burden hours associated with this collection are 53,810 hours and that the collection requires no additional costs to the respondents beyond the labor costs associated with the burden hours.

NHTSA estimated the burdens associated with this labor by calculating the burden associated with submitting information under each subpart of part 579. In addition to these burdens, NHTSA also estimates that manufacturers will incur computer maintenance burden hours, which are estimated on a per manufacturer basis.

Requirements Under Part 579, Subpart A

The first component of this collection request covers the requirements found in part 579 Subpart A, § 579.5, Notices, bulletins, customer satisfaction campaigns, consumer advisories, and other communications. Section 579.5 requires manufactures to furnish (1) a copy of all notices, bulletins, and other communications sent to more than one manufacturer, distributor, dealer, lessor, lessee, owner, or purchaser, in the United States, regarding any defect in its vehicles or items of equipment (including any failure or malfunction beyond normal deterioration in use, or any failure of performance, or any flaw or unintended deviation from design specifications), whether or not such defect is safety-related and (2) a copy of each communication relating to a customer satisfaction campaign, consumer advisory, recall, or other safety activity involving the repair or replacement of motor vehicles or equipment, that the manufacturer issued to, or made available to, more than one dealer, distributor, lessor, lessee, other manufacturer, owner, or purchaser, in the United States. Manufacturers are required to submit this information monthly. However, Section 579.5 does not require manufacturers to create these documents. Instead, only copies of these documents must be submitted to NHTSA and manufacturers must index these communications and email them to NHTSA within 5 working days after the end of the month in which they were issued. Therefore, the burden hours are only those associated with collecting the documents and submitting copies to NHTSA.

NHTSA estimates that it receives approximately 24,884 notices a year. We estimate that it takes about 5 minutes to collect, index, and send each notice to NHTSA. Therefore, we estimate that it takes 2,074 hours for manufacturers to submit notices as required under Section 579.5 (24,884 notices × 5 minutes = 124,420 minutes or 2,074 hours).

To calculate the labor cost associated with submitting Section 579.5 notices, bulletins, customer satisfaction campaigns, consumer advisories and other communications that are sent to more than one dealer or owner, NHTSA looked at wage estimates for the type of personnel submitting the documents. While some manufacturers employ clerical staff to collect and submit the documents, others use technical computer support staff to complete the task. Because we do not know what percent of the work is completed by clerical or technical computer support staff, NHTSA estimates the total labor costs associated with these burden hours by looking at the average wage for the higher paid technical computer support staff. The Bureau of Labor Statistics (BLS) estimates that the average hourly wage for Computer Support Specialists (BLS Occupation code 15-1230) in the Motor Vehicle Manufacturing Industry is $31.39.¹ The Bureau of Labor Statistics estimates that private industry workers' wages represent 70.2% of total labor compensation costs.² Therefore, NHTSA estimates the hourly labor costs to be $44.72 for Computer Support Specialists. The labor cost per submission is estimated to be $3.73 ($44.72 × 5 minutes). NHTSA estimates the total labor cost associated with the 2,074 burden hours for § 579.5 submissions to be $92,817.32 ($3.73 × 24,884 submissions). Table 1 provides a summary of the burden estimates using the average annual submission count for monthly reports submitted pursuant to § 579.5 and the estimated burden hours and labor costs associated with those submissions.

¹ May 2019 National Industry-Specific Occupational Employment and Wage Estimates NAICS 336100—Motor Vehicle Manufacturing, U.S. Bureau of Labor Statistics, https://www.bls.gov/oes/current/naics4_336100.htm#15-0000. Last Accessed June 17, 2020.

² Employer Costs for Employee Compensation, U.S. Bureau of Labor Statistics, https://www.bls.gov/news.release/ecec.t01.htm. Last Accessed July 30, 2020.

Table 1—Burden Estimates for § 579.5 Submissions
Average annual § 579.5 submissions | Estimated burden per submission | Average hourly labor cost | Labor cost per submission | Total burden hours | Total labor costs
24,884 | 5 minutes | $44.72 | $3.73 | 2,074 | $92,817.32 or $92,817

Requirements Under Part 579, Subpart B (Foreign Reporting)

The second component of this information collection request covers the requirements found in part 579 Subpart B, “Reporting of Safety Recalls and Other Safety Campaigns in Foreign Countries.” Pursuant to § 579.11, whenever a manufacturer determines to conduct a safety recall or other safety campaign in a foreign country, or whenever a foreign government has determined that a safety recall or other safety campaign must be conducted, covering a motor vehicle, item of motor vehicle equipment, or tire that is identical or substantially similar to a vehicle, item of equipment, or tire sold or offered for sale in the United States, the manufacturer must report to NHTSA not later than 5 working days after the manufacturer makes such determination or receives written notification of the foreign government's determination. Section 579.11(e) also requires each manufacturer of motor vehicles to submit, not later than November 1 of each year, a document that identifies foreign products and their domestic counterparts.

In order to provide the information required for foreign safety campaigns, manufacturers must (1) determine whether vehicles or equipment that are covered by a foreign safety recall or other safety campaign are identical or substantially similar to vehicles or equipment sold in the United States, (2) prepare and submit reports of these campaigns to the agency, and (3) where a determination or notice has been made in a language other than English, translate the determination or notice into English before transmitting it to the agency.

NHTSA estimates that there is no burden associated with determining whether an individual safety recall covers a foreign motor vehicle or item of motor vehicle equipment that is identical or substantially similar to those sold in the United States because manufacturers can simply consult the list that they are required to submit each year. Therefore, the only burden associated with making the determination of whether a foreign safety recall or other safety campaign is required to be reported to NHTSA is the burden associated with creating the annual list. NHTSA continues to estimate that it takes approximately 9 hours per manufacturer to develop and submit the list. The 9 hours are comprised of 8 attorney hours and 1 hour for IT work. NHTSA receives these lists from 101 manufacturers, on average, resulting in 909 burden hours (101 vehicle manufacturers × 8 hours for attorney support = 808 hours) + (101 vehicle manufacturers × 1 hour for IT support = 101 hours).

NHTSA estimates that preparing and submitting each foreign defect report (foreign recall campaign) requires 1 hour of clerical staff and that translation of determinations into English requires 2 hours of technical staff (note: This assumes that all foreign campaign reports require translation, which is unlikely). Between 2016 and 2018, NHTSA received a yearly average of 227 foreign recall reports. NHTSA estimates that in each of the next three years, NHTSA will receive, on average, 227 foreign recall reports. NHTSA estimates that each report will take 3 hours (1 hour to prepare by a clerical employee and 2 hours for translation). Therefore, NHTSA estimates that the burden hours associated with submitting these reports will be 681 hours (3 hours per report × 227 reports).

Therefore, NHTSA estimates the total annual burden hours on manufacturers for reporting foreign safety campaigns and substantially similar vehicles/equipment is 1,590 hours (909 hours for submitting annual lists + 681 hours for submitting foreign recall and safety campaign reports). This is an increase of 444 burden hours from our previous estimate (1,590 hours for current estimate − 1,146 hours for previous estimate). Table 2 provides a summary of the estimated burden hours for part 579 Subpart B submissions.

Table 2—Burden Hour Estimates for Foreign Reporting
Submission type | Annual number of submissions | Burden hours per report | Total burden hours
Foreign Recall/Safety-Related Campaign Report | 227 | 1 hour clerical + 2 hours translation = 3 hours | 681
Annual List | 101 | 8 hours attorney + 1 hour IT = 9 hours | 909
Total |  |  | 1,590

To calculate the labor cost associated with part 579 foreign reporting submissions, NHTSA looked at wage estimates for the type of personnel submitting the documents. As stated above, NHTSA estimates that submitting annual lists under § 579.11(e) will involve 8 hours of attorney time and 1 hour of IT work. The Bureau of Labor Statistics (BLS) estimates that the average hourly wage for Lawyers (BLS Occupation code 23-1000) in the Motor Vehicle Manufacturing Industry is $95.85 ³ and the average hourly wage for Computer Support Specialists (BLS Occupation code 15-1230) in the Motor Vehicle Manufacturing Industry is $31.39.⁴ The Bureau of Labor Statistics estimates that private industry workers, wages represent 70.2% of total labor compensation costs.⁵ Therefore, NHTSA estimates the hourly labor costs to be $136.54 for Lawyers and $44.72 for Computer Support Specialists. NHTSA estimates the total labor cost associated with submitting one annual list to be $1,137.04 ($136.54 per hour × 8 attorney hours + $44.72 per hour × 1 IT hour) and $114,841.04 or $114,841 for all 101 annual lists NHTSA estimates will be submitted annually.

³ May 2019 National Industry-Specific Occupational Employment and Wage Estimates NAICS 336100—Motor Vehicle Manufacturing, U.S. Bureau of Labor Statistics, https://www.bls.gov/oes/current/naics4_336100.htm#23-0000.

⁴ https://www.bls.gov/oes/current/naics4_336100.htm#15-0000.

⁵ Employer Costs for Employee Compensation, U.S. Bureau of Labor Statistics, https://www.bls.gov/news.release/ecec.t01.htm. Last Accessed July 31, 2020.

NHTSA estimates that submitting each foreign recall or safety campaign report involves 1 hour of clerical work and 2 hours of translation work. The Bureau of Labor Statistics (BLS) estimates that the average hourly wage for Office Clerks (BLS Occupation code 43-9061) in the Motor Vehicle Manufacturing Industry is $20.74 ⁶ and the average hourly wage for Interpreters and Translators (BLS Occupation code 27-3091) is $27.40.⁷ The Bureau of Labor Statistics estimates that private industry workers' wages represent 70.2% of total labor compensation costs.⁸ Therefore, NHTSA estimates the hourly labor costs to be $29.54 for Office Clerks and $39.03 for Interpreters and Translators. NHTSA estimates the total labor cost associated with submitting one foreign recall or safety campaign report to be $107.60 ($29.54 per hour × 1 Clerical hour + $39.03 per hour × 2 Translator hours) and $24,425.20 or $24,425 for all 227 foreign recall or safety campaign reports NHTSA estimates will be submitted annually.

⁶ May 2019 National Industry-Specific Occupational Employment and Wage Estimates NAICS 336100—Motor Vehicle Manufacturing, U.S. Bureau of Labor Statistics, https://www.bls.gov/oes/current/naics4_336100.htm#43-0000. Last Accessed June 17, 2020.

⁷ May 2019 National Occupational Employment and Wage Estimates United States, U.S. Bureau of Labor Statistics, https://www.bls.gov/oes/current/oes_nat.htm. Last Accessed June 17, 2020.

⁸ Employer Costs for Employee Compensation, U.S. Bureau of Labor Statistics, https://www.bls.gov/news.release/ecec.t01.htm. Last Accessed July 31, 2020.

Table 3 provides a summary of the labor costs associated with the foreign reporting requirements in part 579, Subpart B. NHTSA estimates that the total labor costs associated with the annual list requirement and the requirement to report foreign recalls and safety campaigns is $139,266 ($114,841 + $24,425).

Table 3—Annual Labor Cost Estimates for Foreign Reporting
Submission type and labor category | Hours per submission | Hourly labor cost | Labor cost per submission | Number of submissions | Total labor cost
Annual List—Lawyer | 8 | $136.54 | $1,092.32 | 101 | $110,324.32.
Annual List—Computer Specialist | 1 | 44.72 | 44.72 | 101 | $4,516.72.
Totals for Annual List | 9 |  | 1,137.04 |  | $114,841.04 or $114,841.
Foreign Recall/Safety—Related Campaign Report—Clerical | 1 | 29.54 | 29.54 | 227 | $6,705.58.
Foreign Recall/Safety—Related Campaign Report—Translator | 2 | 39.03 | 78.06 | 227 | $17,719.62.
Totals for Foreign Recall/Safety Campaign Report | 3 |  | 107.60 |  | $24,425.20 or $24,425.
Total Labor Costs for Part 579 Subpart B Requirements |  |  |  |  | $139,266.24 or $139,266.

Requirements Under Part 579, Subpart C (Reporting of Early Warning Information (EWR))

The third component of this information collection covers the requirements found in Part 579 Subpart C, “Reporting of Early Warning Information.” Besides production information, there are five major categories requiring reporting of incidents or claims in Subpart C, with the specific requirements and applicability of those categories varying by vehicle and equipment type and, in some circumstances, manufacturer volume. Sections 579.21-27 require manufacturers to submit the following: (1) Production information; (2) reports on incidents involving death or injury in the United States; (3) reports on incidents involving one or more deaths in a foreign country involving a vehicle or item of equipment that is identical or substantially similar to a vehicle or item of equipment that is offered for sale in the United States; (4) separate reports on the number of property damage claims, consumer complaints, warranty claims, and field reports that involve a specified system or event; (5) copies of field reports; and, for manufacturers of tires, (6) a list of common green tires (applicable to only tire manufacturers). Section 579.28(l) allows NHTSA to request additional related information to help identify a defect related to motor vehicle safety. The regulation specifies the time frame for reporting for each category. Foreign recalls of substantially similar vehicles and manufacturer communications are required to be submitted monthly, substantially similar vehicle listings are required annually, and all other report types are required to be submitted on a quarterly basis.

Production Information—Quarterly Reporting

Manufacturers are required to report production information to NHTSA on a quarterly basis (e.g., 4 times per calendar year).⁹ Estimates of the burden hours and reporting costs are based on:

⁹ Low volume and equipment manufacturers are not required to submit production information.

• The number of manufacturers reporting;

• The frequency of required reports;

• The number of hours required per report; and

• The cost of personnel to report.

The number of hours for reporting ranges from 1 hour for trailer manufacturers to 8 hours for light vehicle manufacturers (Table 4). Quarterly reporting burden hours are calculated by multiplying hours used to report for a given category by the number of manufacturers for the category and by the four times per year quarterly reporting. Using these methods and the average number of manufacturers who report annually, we estimate the annual burden hours for quarterly reporting at 5,216 hours as detailed below in Table 4.

NHTSA assumes that 50 percent of the total burden hours are utilized by technical personnel while clerical staff consumes the remaining 50 percent. In other words, the hourly wage rate for each quarterly report is split evenly between technical and clerical personnel and a weighted hourly rate is developed from this assumption. Therefore, using the BLS total hourly compensation rates discussed above of $44.72 for a Computer Support Specialist and $29.54 for an Office Clerk, the weighted hourly rate is $37.13 (Technical Mean Hourly Wage of $44.72 × 0.5 + Clerical Mean Hourly Wage of $29.54 × 0.5). The estimated reporting costs are calculated as follows:

(M × Tp × $37.13 = quarterly cost of reporting) × 4 = annual cost of reporting *

* M = Manufacturers reporting data in the category; Tp = Reporting time for the category; $37.13 = Reporting labor cost compensation rate; 4 = Quarterly reports per year

For example, the estimated reporting cost for light vehicles is $42,773.76 (36 manufacturers × 8 hours × $37.13 compensation rate × 4 quarters), and the total annual labor costs associated with quarterly reporting are estimated to be $193,670. Table 4 includes the estimated burden hours and reporting costs for non-dealer field reports, aggregate submissions, and death and injury submissions, as well as the quarterly and annual labor costs associated with reporting.

Table 4—Estimated Manufacturer Annual Burden Hours and Labor Costs for Quarterly Reporting
Vehicle/equipment category | Average number of manufacturers | Quarterly hours to report per manufacturer | Blended hourly comp. rate | Quarterly labor costs per manufacturer | Annual burden hours for reporting | Annual labor costs
Light Vehicles | 36 | 8 | $37.13 | $297.04 | 1,152 | $42,773.76.
Medium-Heavy Vehicles | 39 | 5 | 37.13 | 185.65 | 780 | 28,961.40.
Trailers | 96 | 1 | 37.13 | 37.13 | 384 | 14,257.92.
Motorcycles | 15 | 2 | 37.13 | 74.26 | 120 | 4,455.60.
Emergency Vehicles | 8 | 5 | 37.13 | 185.65 | 160 | 5,940.80.
Buses | 33 | 5 | 37.13 | 185.65 | 660 | 24,505.80.
Tires | 32 | 5 | 37.13 | 185.65 | 640 | 23,763.20.
Child Restraints | 42 | 1 | 37.13 | 37.13 | 168 | 6,237.84.
Vehicle Equipment | 36 | 8 | 37.13 | 297.04 | 1,152 | 42,773.76.
Totals |  | 40 |  |  | 5,216 | $193,670.08 or $193,670.

Early Warning Reporting (EWR) Submissions

Table 5 provides an average annual submission count for each category submitted per the requirements of 49 CFR part 579, subpart C: Reports on incidents involving death or injury in the United States; reports on incidents involving one or more deaths in a foreign country involving a vehicle or item of equipment that is identical or substantially similar to a vehicle or item of equipment that is offered for sale in the United States; separate reports on the number of property damage claims, consumer complaints, warranty claims, and field reports that involve a specified system or event; copies of field reports; and, for manufacturers of tires, a list of common green tires; and additional follow-up information per § 579.28(l) related to injury and fatality claims or comprehensive inquiries. Each reporting category has specific requirements and types of reports that need to be submitted and we state “N/A” where there is no requirement for that reporting category.

Table 5—Annual Average of EWR Submissions by Manufacturers
[2016-2018]
Category of claims | Light vehicles | Heavy, med vehicles | Trailers | Motorcycles | Emergency vehicles | Buses | Tires | Child restraints | Equipment mfr. | Totals
Incidents Involving Injury or Fatality in U.S | 11,124 | 39 | 30 | 133 | 8 | 33 | 58 | 453 | 9 | 11,887
Incidents Involving Fatality in Foreign Country | 146 | 6 | 5 | 2 | 0 | 1 | 3 | 167 | 0 | 330
Reports on Number of Claims Involving Specific System or Event | 10,261 | 666 | 91 | 40 | 0 | 0 | 1,154 | NA | NA | 12,212
Mfr. Field Reports | 66,722 | 16,639 | 20 | 1,301 | 0 | 0 | NA | 3,727 | NA | 88,409
Common Green Tire Reporting | NA | NA | NA | NA | NA | NA | 112 | NA | NA | 112
Average Number of Follow-Up Sequences per 579.28(l) | 148 | 10 | 3 | 5 | 1 | 1 | 3 | 17 | 2 | 190
Totals: | 88,401 | 17,360 | 149 | 1,481 | 9 | 35 | 1,330 | 4,364 | 11 | 113,140

The above updated submission totals represent an 12% increase from the previously approved information collection. Submission totals for each category have risen with an average of 11,887 injury and fatality claims in the United States (previously 9,804 claims), 330 foreign death claims (previously 101 claims), 12,212 claims involving specific system or event (previously 11,481 claims), 88,409 manufacturer field reports (previously 79,297 field reports), 112 common green tire reports, and 190 injury and fatality or comprehensive inquiry follow-up sequences per § 579.28(l), totaling 113,140 submissions on average (previously estimated at 100,683 submissions).

The agency estimates that an average of 5 minutes is required for a manufacturer to process each report, except for foreign death claims and follow-up responses. We estimate foreign death claims and follow-up responses per § 579.28(l) require an average of 15 minutes to process. Multiplying the total average number of minutes by the number of submissions NHTSA receives in each reporting category yields the burden hour estimates found below in Table 6. Our previous estimates of Early Warning associated burden hours totaled 8,407, and we now update that total to 9,515 burden hours, a 13.2% increase, associated with the above noted claim categories.

Table 6—Annual Manufacturer Burden Hour Estimates for EWR Submissions
Category of claims | Annual average of EWR submissions | Average time to process each report (min.) | Estimated annual burden hours
Incidents Involving Injury or Fatality in U.S | 11,887 | 5 | 990.58
Incidents Involving Fatality in Foreign Country | 330 | 15 | 82.50
Reports on Number of Claims Involving Specific System or Event | 12,212 | 5 | 1,017.67
Mfr. Field Reports | 88,409 | 5 | 7,367.42
Common Green Tire Reporting | 112 | 5 | 9.33
Average Number of Follow-Up Sequences per 579.28(l) | 190 | 15 | 47.5
Totals: | 113,140 |  | 9,515

Thus, the total estimated annual manufacturer burden hours for Sections 579.21-28 (EWR submissions and quarterly reporting) are 14,731 hours (5,216 (Table 4) + 9,515 (Table 6).

We have also constructed various estimates of the average five minutes of labor among the various occupations depending on the type of claim that was reviewed. Table 7 shows the estimated time allocations that it will take an individual to review each type of claim (in minutes) and the weighted hourly rate for individuals involved.

Table 7—Estimated Manufacturer Time Allocation by Claim Type and Weighted Hourly Rate
Claim type | Estimated time (in minutes) to review a claim: Lawyer (rate: $136.54 ¹⁰) | Estimated time (in minutes) to review a claim: Engineer (rate $63.03 11) | Estimated time (in minutes) to review a claim: IT (rate: $66.82 12) | Estimated time (in minutes) to review a claim: Technical (rate: $44.72 13) | Estimated time (in minutes) to review a claim: Clerical (rate: $29.54 14) | Estimated time (in minutes) to review a claim: Total time | Estimated time (in minutes) to review a claim: Weighted hourly rate
Incidents Involving Injury or Fatality in U.S | 3 | 0 | 0 | 0 | 2 | 5 | $93.74
Incidents Involving Fatality in Foreign Country | 3 | 10 | 0 | 0 | 2 | 15 | 73.27
Reports on Number of Claims Involving Specific System or Event | 0 | 0 | 0 | 3 | 2 | 5 | 38.65
Mfr. Field Reports | 0 | 0 | 0 | 3 | 2 | 5 | 38.65
Green Tire Events | 0 | 0 | 0 | 0 | 5 | 5 | 29.54
Average Number of Follow-Up Sequences per 579.28(l) | 3 | 10 | 0 | 0 | 2 | 15 | 73.27

The total labor costs for claims documents were obtained using the following formula:

¹⁰ May 2019 National Industry-Specific Wage Estimates—Motor Vehicle Manufacturing, U.S. Bureau of Labor Statistics, Lawyers (Code 23-1000), $95.85, https://www.bls.gov/oes/current/naics4_336100.htm#23-0000, divided by 70.2% for compensation rate, https://www.bls.gov/news.release/ecec.t01.htm.

¹¹ May 2019 National Industry-Specific Wage Estimates—Motor Vehicle Manufacturing, U.S. Bureau of Labor Statistics, Engineers (Code 17-2000), $44.25, https://www.bls.gov/oes/current/naics4_336100.htm#17-0000, divided by 70.2% for compensation rate, https://www.bls.gov/news.release/ecec.t01.htm.

¹² May 2019 National Occupational Employment and Wage Estimates, U.S. Bureau of Labor Statistics, Computer and Information Analysts (Code 15-1210), $46.91, https://www.bls.gov/oes/current/oes_nat.htm#15-0000, divided by 70.2% for compensation rate, https://www.bls.gov/news.release/ecec.t01.htm.

¹³ May 2019 National Industry-Specific Wage Estimates—Motor Vehicle Manufacturing, U.S. Bureau of Labor Statistics, Computer Support Analyst (Code 15-1230), $31.39, https://www.bls.gov/oes/current/naics4_336100.htm#15-0000, divided by 70.2% for compensation rate, https://www.bls.gov/news.release/ecec.t01.htm.

¹⁴ May 2019 National Industry-Specific Wage Estimates—Motor Vehicle Manufacturing, U.S. Bureau of Labor Statistics, Office Clerks (Code 43-9061), $20.74, https://www.bls.gov/oes/current/naics4_336100.htm#43-0000, divided by 70.2% for compensation rate, https://www.bls.gov/news.release/ecec.t01.htm.

K × T × W = Costs for claim type *

* K = Claims submitted by industry; T = Estimated time spent on a claim; W = Weighted Hourly Rate.

Table 8 shows the annual labor costs of reporting EWR information to NHTSA.

Table 8—Estimated EWR Annual Labor Costs by Category
Category of claims | Annual average of EWR submissions | Average time to process each report (min.) | Weighted hourly rate | Estimated labor cost per submission | Estimated annual labor cost
Incidents Involving Injury or Fatality in U.S | 11,887 | 5 | $93.74 | $7.81 | $92,857.28.
Incidents Involving Fatality in Foreign Country | 330 | 15 | 73.27 | 18.32 | 6,044.78.
Reports on Number of Claims Involving Specific System or Event | 12,212 | 5 | 38.65 | 3.22 | 39,332.82.
Mfr. Field Reports | 88,409 | 5 | 38.65 | 3.22 | 284,750.65.
Common Green Tire Reporting | 112 | 5 | 29.54 | 2.46 | 275.71.
Average Number of Follow-Up Sequences per 579.28(l) | 190 | 15 | 73.27 | 18.32 | 3,480.33.
Totals: | 113,140 |  |  |  | 426,741.56 or 426,742.

Computer Maintenance Burden

In addition to the burden associated with submitting documents under each subpart of part 579, NHTSA also estimates that manufacturers will incur computer maintenance burden hours associated with the information collection requirements. The estimated manufacturer burden hours associated with aggregate data submissions for consumer complaints, warranty claims, and dealer field reports are included in reporting and computer maintenance hours. The burden hours for computer maintenance are calculated by multiplying the hours of computer use (for a given category) by the number of manufacturers reporting in a category. NHTSA estimates that light vehicle manufacturers will spend approximately 347 hours per year on computer maintenance and that other vehicle manufacturers will spend about 25% as much time as light vehicle manufacturers on computer maintenance. Therefore, NHTSA estimates that medium-heavy truck, trailer, motorcycle manufacturers, emergency vehicle, and bus manufacturers will each spend approximately 86.5 hours on computer maintenance each year. NHTSA estimates that tire manufacturers and child restraint manufacturers will also spend 86.5 hours on computer maintenance per year. Therefore, NHTSA estimates the total burden for computer maintenance to be 35,415 hours per year (based on there being an estimated 36 light vehicle manufacturers, 39 medium-heavy vehicle manufacturers, 96 trailer manufacturers, 15 motorcycle manufacturers, 8 emergency vehicle manufacturers, 33 bus manufacturers, 32 tire manufacturers, and 42 child restraint manufactures).

To calculate the labor cost associated with computer maintenance hours, NHTSA looked at wage estimates for the type of personnel submitting the documents. The Bureau of Labor Statistics (BLS) estimates that the average hourly wage for Computer Support Specialists (BLS Occupation code 15-1230) in the Motor Vehicle Manufacturing Industry is $31.39.¹⁵ The Bureau of Labor Statistics estimates that private industry workers' wages represent 70.2% of total labor compensation costs.¹⁶ Therefore, NHTSA estimates the hourly labor costs to be $44.72 for Computer Support Specialists. For the estimated total of 35,415 annual computer maintenance burden hours, NHTSA estimates the associated labor costs will be approximately $1,583,736. Table 9 shows the annual estimated burden hours for computer maintenance by vehicle/equipment category and the estimated labor costs associated with those burden hours.

¹⁵ https://www.bls.gov/oes/current/naics4_336100.htm#15-0000.

¹⁶ Employer Costs for Employee Compensation, U.S. Bureau of Labor Statistics, https://www.bls.gov/news.release/ecec.t01.htm. Last Accessed July 31, 2020.

Table 9—Estimated Manufacturer Annual Burden Hours for Computer Maintenance for Reporting
Vehicle/equipment category | Average number of manufacturers | Hours for computer maintenance per manufacturer | Average hourly labor cost | Annual burden hours for computer maintenance | Total labor costs
Light Vehicles | 36 | 347 | $44.72 | 12,492 | $558,642.24.
Medium-Heavy Vehicles | 39 | 86.5 | 44.72 | 3,373.5 | 150,862.92.
Trailers | 96 | 86.5 | 44.72 | 8,304 | 371,352.88.
Motorcycles | 15 | 86.5 | 44.72 | 1,297.5 | 58,024.20.
Emergency Vehicles | 8 | 86.5 | 44.72 | 692 | 30,946.24.
Buses | 33 | 86.5 | 44.72 | 2,854.5 | 127,653.24.
Tires | 32 | 86.5 | 44.72 | 2,768 | 123,784.96.
Child Restraints | 42 | 86.5 | 44.72 | 3,633 | 162,467.76.
Totals |  |  |  | 35,414.5 or 35,415 hours | 1,583,736.44 or 1,583,736.

Based on the foregoing, we estimate the burden hours for industry to comply with the current Part 579 reporting requirements (EWR requirements, foreign campaign requirements and Part 579.5 requirements) to be 53,810 hours per year. The total annual burden hours for this information collection consisting of manufacturer communications under Section 579.5 (Subpart A), foreign reporting (Subpart B), EWR submissions and reporting (Subpart C), and computer maintenance is outlined in Table 9 below.

Table 9—Total Manufacturer Burden Hours for This Collection
Reporting type | Annual burden hours
Subpart A: Manufacturer Communications § 579.5 (Table 1) | 2,074
Subpart B: Foreign Reporting (Table 2) | 1,590
Subpart C: EWR Submissions and Quarterly Reporting (Tables 4 & 6) | 14,731
Computer Maintenance | 35,415
Total | 53,810

The burden estimates represent an overall increase in burden hours of 4,567 hours. The increase in burden hours is due to increases in the number of submissions and modifying this request to include reporting for common green tires and additional information requested by NHTSA per Section 579.28(l) that were left out of the previous information collection request. The wage estimates have been adjusted to reflect the latest available rates from the Bureau of Labor Statistics.

Estimated Total Annual Cost: NHTSA estimates the collection requires no additional costs to the respondents beyond the labor costs associated with the burden hours to collect and submit the reports to NHTSA and the labor hours and associated labor costs for computer maintenance.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Jeffrey Mark Giuseppe,
Associate Administrator for Enforcement.

[FR Doc. 2020-28766 Filed 12-28-20; 8:45 am]

BILLING CODE 4910-59-P